DEPARTMENT OF ENERGY

Federal Energy Regulatory Commission

[Docket No. IC11-537-001]

Commission Information Collection Activities (FERC-537); Comment Request; Submitted for OMB Review

January 20, 2011.

AGENCY: Federal Energy Regulatory Commission, DOE.

ACTION: Notice.

SUMMARY: In compliance with the requirements of section 3507 of the Paperwork Reduction Act of 1995, 44 U.S.C. 3507, the Federal Energy Regulatory Commission (Commission or FERC) has submitted the information collection described below to the Office of Management and Budget (OMB) for review of the information collection requirements. Any interested person may file comments directly with OMB and should address a copy of those comments to the Commission as explained below. The Commission issued a Notice in the Federal Register (75 FR 64301, 10/19/2010) requesting public comments. FERC received no comments on the FERC-537 and has made this notation in its submission to OMB.¹

¹ OMB will not make a decision on this proceeding until after 30 days from the time it is received.

DATES: Comments on the collection of information are due by February 28, 2011.

ADDRESSES: Address comments on the collection of information to the Office of Management and Budget, Office of Information and Regulatory Affairs, Attention: Federal Energy Regulatory Commission Desk Officer. Comments to Created by OMB should be filed electronically, c/o oira_submission@omb.eop.gov and include OMB Control Number 1902-0060 for reference. The Desk Officer may be reached by telephone at 202-395-4638.

A copy of the comments should also be sent to the Federal Energy Regulatory Commission and should refer to Docket No. IC11-537-001. Comments may be filed either electronically or in paper format. Those persons filing electronically do not need to make a paper filing. Documents filed electronically via the Internet must be prepared in an acceptable filing format and in compliance with the Federal Energy Regulatory Commission submission guidelines. Complete filing instructions and acceptable filing formats are available at http://www.ferc.gov/help/submission-guide.asp. To file the document electronically, access the Commission's Web site and click on Documents & Filing, E-Filing (http://www.ferc.gov/docs-filing/efiling.asp), and then follow the instructions for each screen. First time users will have to establish a user name and password. The Commission will send an automatic acknowledgement to the sender's e-mail address upon receipt of comments.

For paper filings, the comments should be submitted to the Federal Energy Regulatory Commission, Secretary of the Commission, 888 First Street, NE., Washington, DC 20426, and should refer to Docket No. IC11-537-001.

Users interested in receiving automatic notification of activity in FERC Docket Number IC11-537 may do so through eSubscription at http://www.ferc.gov/docs-filing/esubscription.asp. All comments may be viewed, printed or downloaded remotely via the Internet through FERC's homepage using the “eLibrary” link. For user assistance, contact ferconlinesupport@ferc.gov or toll-free at (866) 208-3676, or for TTY, contact (202) 502-8659.

FOR FURTHER INFORMATION CONTACT: Ellen Brown may be reached by e-mail at DataClearance@FERC.gov, by telephone at (202) 502-8663, and by fax at (202) 273-0873.

SUPPLEMENTARY INFORMATION: The information collected under the requirements of FERC-537, “Gas Pipeline Certificates: Construction, Acquisition, and Abandonment” (OMB Control No. 1902-0060), is used by the Commission to implement the statutory provisions of the Natural Gas Policy Act of 1978 (NGPA), 15 U.S.C. 3301-3432, and the Natural Gas Act (NGA) (15 U.S.C. 717-717w). Under the NGA, natural gas pipeline companies must obtain Commission authorization to undertake the construction or extension of any facilities, or to acquire or operate any such facilities or extensions in accordance with Section 7(c) of the NGA. A natural gas company must also obtain Commission approval under Section 7(b) of the NGA prior to abandoning any jurisdictional facility or service. Under the NGA and the NGPA, interstate and intrastate pipelines must also obtain authorization for certain transportation and storage services and arrangements, particularly a Part 284, Subpart G—Blanket Certificate (18 CFR 284.8).

The information collected is necessary to certificate interstate pipelines engaged in the transportation and sale of natural gas, and the construction, acquisition, and operation of facilities to be used in those activities, to authorize the abandonment of facilities and services, and to authorize certain NGPA transactions. If a certificate is granted, the natural gas company can construct, acquire, or operate facilities, plus engage in interstate transportation or sale of natural gas. Conversely, approval of an abandonment application permits the pipeline to cease service and/or discontinue the operation of such facilities. Authorization under NGPA Section 311(a) allows the interstate or intrastate pipeline applicants to render certain transportation services.

The data required to be submitted consists of identification of the company and responsible officials, factors considered in the location of the facilities and the detailed impact on the project area for environmental considerations. Also to be submitted are the following:

• Flow diagrams showing proposed design capacity for engineering design verification and safety determination;

• Commercial and economic data presenting the basis for the proposed action; and

• Cost of the proposed facilities, plans for financing, and estimated revenues and expenses related to the proposed facility for accounting and financial evaluation.

The Commission implements these filing requirements in the Code of Federal Regulations (CFR) under 18 CFR 157.5-.11; 157.13-.20; 157.53; 157.201-.209; 157.211; 157.214-.218; 284.8; 284.11; 284.126; 284.221; 284.224.²

² Sections 284.223 and 284.227 have been removed from this Notice since they have no reporting or records burden.

Action: The Commission is requesting a three-year extension of the FERC-537 reporting requirements.

Burden Statement: The first table shows a summary of the burden for this collection. Because the nature of the various filings that are covered by FERC-537 are so varied, another table has been included to give a more detailed description of the various elements of this burden estimate:

³ From detailed table: No. of Filings/No. of Respondents, or 775/225 = 3.44

⁴ A weighted average based on the information provided in the detailed table.

FERC data collection | Number of respondents | Average number of responses per respondent ³ | Average burden hours per response ⁴ | Total annual burden hours
| (1) | (2) | (3) | (1)×(2)×(3)
FERC-537 | 225 | 3.44 | 133 | 102,942

Details for FERC-537, “Gas Pipeline Certificates: Construction, Acquisition, and Abandonment,” based on Fiscal Year 2010 information and records:

Regulation section 18 CFR * * * | Regulation topic | Number of respondents | Number of filings or responses | Avg. hours to prepare a filing or application
157.5-.11; & 157.13-.20 | Interstate certificate and abandonment applications |  | 82 | 500
157.53 | Exemptions | 75 companies (25 different) | 10 | 100
157.201-.209; 157.211; 157.214-.218 | Blanket Certificates prior notice filings |  | 45 | 200
157.201-.209; 157.211; 157.214-.218 | Blanket Certificates—annual reports | 145 companies (145 different) | 336 | 50
284.11 | NGPA Sec. 311 Construction—annual reports |  |  |
284.8 | Capacity Release—recordkeeping | 168 | 168 | 75
284.126 (a)&(c) | Intrastate bypass, semi annual transportation & storage—reports | 50 companies ( 50 different) | 100 | 30
284.221 | Blanket Certificates—one time filing, inc. new tariff and rate design proposal | 20 | 20 | 100
284.224 | Hinshaw Blanket Certificates | 2 ( 2 different) | 2 | 75
157.5-.11; & 157.13-.20 | Non-facility certificate or abandonment applications | 9 ( 3 different) | 12 | 75
TOTALS |  | 225 different | 775 | ¹ 133
¹ Average, weighted.

The total estimated annual cost burden to respondents is $6,823,570 (102,942 hours/2,080 hours ⁵ per year, times $137,874 ⁶).

⁵ Estimated number of hours an employee works each year.

⁶ Estimated average annual cost per employee.

The reporting burden includes the total time, effort, or financial resources expended to generate, maintain, retain, disclose, or provide the information including: (1) Reviewing instructions; (2) developing, acquiring, installing, and utilizing technology and systems for the purposes of collecting, validating, verifying, processing, maintaining, disclosing and providing information; (3) adjusting the existing ways to comply with any previously applicable instructions and requirements; (4) training personnel to respond to a collection of information; (5) searching data sources; (6) completing and reviewing the collection of information; and (7) transmitting, or otherwise disclosing the information.

The estimate of cost for respondents is based upon salaries for professional and clerical support, as well as direct and indirect overhead costs. Direct costs include all costs directly attributable to providing this information, such as administrative costs and the cost for information technology. Indirect or overhead costs are costs incurred by an organization in support of its mission. These costs apply to activities which benefit the whole organization rather than any one particular function or activity.

Comments are invited on: (1) Whether the proposed collection of information is necessary for the proper performance of the functions of the Commission, including whether the information will have practical utility; (2) the accuracy of the agency's estimates of the burden of the proposed collection of information, including the validity of the methodology and assumptions used; (3) ways to enhance the quality, utility and clarity of the information to be collected; and (4) ways to minimize the burden of the collections of information on those who are to respond, including the use of appropriate automated, electronic, mechanical, or other technological collection techniques or other forms of information technology, e.g. permitting electronic submission of responses.

Kimberly D. Bose,
Secretary.

[FR Doc. 2011-1715 Filed 1-26-11; 8:45 am]

BILLING CODE 6717-01-P